ENVIRONMENTAL PROTECTION AGENCY

[EPA-HQ-OAR-2015-0341; FRL-9930-83-OAR]

Notice of Availability of the Environmental Protection Agency's Update of Two Chapters in the EPA Air Pollution Control Cost Manual; Extension of Comment Period

AGENCY: Environmental Protection Agency (EPA).

ACTION: Notice; extension of comment period.

SUMMARY: The Environmental Protection Agency (EPA) is announcing that the period for providing public comments on the June 12, 2015, notice of data availability of the “Environmental Protection Agency's Update of Two Chapters in the EPA Air Pollution Control Cost Manual” is being extended by 30 days.

DATES: The public comment period for the notice of data availability published June 12, 2015 (80 FR 33515) is being extended by 30 days to September 10, 2015, in order to provide the public additional time to submit comments.

ADDRESSES: Written comments on the notice of data availability may be submitted to the EPA electronically, by mail, by facsimile or through hand delivery/courier. Please refer to the notice of data availability (80 FR 33515) for the addresses and detailed instructions. Publicly available documents relevant to this action are available for public inspection either electronically at http://www.regulations.gov or in hard copy at the EPA Docket Center, Room 3334, 1301 Constitution Avenue NW., Washington, DC 20004, Attention Docket ID No. EPA-HQ-OAR-2015-0341. The Public Reading Room is open from 8:30 a.m. to 4:30 p.m., Monday through Friday, excluding legal holidays. A reasonable fee may be charged for copying. The EPA has established the official public docket No. EPA-HQ-OAR-2015-0341.

FOR FURTHER INFORMATION CONTACT: For questions on the EPA Air Pollution Control Cost Manual update and how to submit comments, contact Mr. Larry Sorrels, Health and Environmental Impacts Division, Environmental Protection Agency, C439-02, 109 T.W. Alexander Drive, Research Triangle Park, NC 27709; telephone number: (919) 541-5041; fax number: (919) 541-0839; email address: sorrels.larry@epa.gov.

SUPPLEMENTARY INFORMATION: The EPA received two requests to extend the comment period on the June 12, 2015, notice of data availability of the “Environmental Protection Agency's Update of Two Chapters in the EPA Air Pollution Control Cost Manual.” Based on the evaluation of those requests and the level of interest in the notice of data availability, the EPA is extending the public comment period for an additional 30 days. The public comment period will end on September 10, 2015, rather than August 11, 2015. This will ensure that the public has sufficient time to review and comment on all of the information available, including the notice of data availability and other materials in the docket.

Dated: July 9, 2015.
Stephen D. Page,
Director, Office of Air Quality Planning and Standards.

[FR Doc. 2015-17656 Filed 7-16-15; 8:45 am]

BILLING CODE 6560-50-P